ENVIRONMENTAL PROTECTION AGENCY

[ER-FRL-6625-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-USA-D11032-PA Rating EC2, Fort Indiantown Gap National Guard Training Center, To Enhance Training and Operations, Pennsylvania National Guard (PANG), Annville, Dauphin and Lebanon Counties, PA.

Summary: EPA expressed environmental concerns regarding wetlands, noise and prime and unique farmland issues. EPA requested that the FEIS include wetlands delineation, the type and quality of wetland habitat and functions/values. In addition, EPA recommended the use of a noise map that depicts the land use areas below the noise contours (including sensitive receptors), the acreage of land affected by noise and the number of people living within the impacted area. Regarding farmland issues, EPA requested that prime and unique farmland impacted by the project be delineated.

Final EISs

ERP No. F-AFS-J65343-MT, North Elkhorns Vegetation Project, Elkhorn Wildlife Management Unit, Implementation, Strawberry Butte Area, Helena National Forest, Jefferson County, MT.

Summary: EPA did not identify potential environmental impacts requiring substantive changes to the selected alternative.

ERP No. F-AFS-J65347-MT, Gold/Boulder/Sullivan (GBS), Implementation of Timber Harvest and Associated Activities Prescribed Burning, Kootenai National Forest, Rexford Ranger District, Lincoln County, MT.

Summary: EPA expressed environmental concerns about impacts to watersheds and wildlife habitat and security from proposed timber harvest and road management, with particular concern over exceedances of Forest Standards for open road density.

ERP No. F-BLM-L65318-OR, Southeastern Oregon Resource Management Plan, Implementation, Comprehensive Framework of Managing Public Land, Malheur, Jordan and Andrew Resource Areas, Vale and Burns Districts, Malheur, Harney and Grant Counties, OR.

Summary: No formal comment letter was sent to the preparing agency.

ERP No. F-HUD-K89062-CA North Hollywood Arts and Entertainment District Project, Construction and Operation, North Hollywood Redevelopment Project, City of Los Angeles, and Los Angeles County, CA.

Summary: EPA found the FEIS adequately addresses most of the issues raised in its comment letter on the DEIS. However, EPA

ERP No. F-UAF-D11048-VA Initial F-22 Operational Wing Beddown Replacing the Existing F-15C at Langley (AFB) or one of the Four Alternative Locations, VA.

Summary: EPA has determined that the United States Air Force has adequately addressed its comments within the FEIS.

ERP No. FS-COE-K36098-CA Prado Dam Water Conversion Plan, Implementation, New Information Concerning New Modified Flood Protection Features, Remaining Features of the Santa Ana River Project (SARP) and Stabilization of the Bluff Toe at Norco Bluffs, Riverside, Orange and San Bernardino Counties, CA.

Summary: EPA expressed continuing environmental concerns regarding potential impacts associated with toxic air contaminants (due to project construction), mitigation for toxic air contaminants and criteria air pollutants, consistency with the Clean Water Act section 404, and analyzing cumulative impacts under the National Environmental Policy Act.

Dated: January 22, 2002.
Joseph C. Montgomery,
Director, NEPA Compliance Division, Office of Federal Activities.

[FR Doc. 02-1883 Filed 1-24-02; 8:45 am]

BILLING CODE 6560-50-P